DEPARTMENT OF COMMERCE

Foreign-Trade Zones Board

[B-32-2017]

Foreign-Trade Zone (FTZ) 86—Tacoma, Washington, Notification of Proposed Production Activity; McFarland Cascade Holdings, Inc./Stella-Jones Corporation (Treated Canadian Softwood Lumber, Plywood, Agriculture Posts, and Landscape Timbers), Tacoma, Washington

McFarland Cascade Holdings, Inc./Stella-Jones Corporation (McFarland Cascade) submitted a notification of proposed production activity to the FTZ Board for its facility in Tacoma, Washington, within Subzone 86H. The notification conforming to the requirements of the regulations of the FTZ Board (15 CFR 400.22) was received on May 15, 2017.

McFarland Cascade's facility is requesting export-only FTZ authority for its wood product treatment operations. Pursuant to 15 CFR 400.14(b), FTZ activity would be limited to the specific foreign-status materials and components and specific finished products described in the submitted notification (as described below) and subsequently authorized by the FTZ Board.

Production under FTZ procedures could exempt McFarland Cascade from customs duty payments on the foreign-status components used in export production. The company has requested authority to produce the following products for export under FTZ procedures: Treated agriculture posts and treated landscape timbers (spruce-pine-fir, Hemlock fir, Douglas fir, larch, aspen); treated plywood (Douglas fir, Larch); treated Hem Fir Lumber; and, treated spruce pine fir lumber. Customs duties also could possibly be deferred or reduced on foreign-status production equipment.

The components and materials sourced from abroad include: Untreated agriculture posts and untreated landscape timbers (spruce-pine-fir, Hemlock fir, Douglas fir, larch, aspen), untreated plywood (Douglas fir, Larch), untreated Hem Fir Lumber, and untreated spruce pine fir lumber (all at zero percent duty rate). The request indicates that the proposed foreign-status components are subject to ongoing antidumping/countervailing duty (AD/CVD) investigations. The FTZ Board's regulations (15 CFR 400.14(e)) require that merchandise subject to AD/CVD orders be admitted to the zone in privileged foreign status (19 CFR 146.41).

Public comment is invited from interested parties. Submissions shall be addressed to the Board's Executive Secretary at the address below. The closing period for their receipt is July 18, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita Chen at juanita.chen@trade.gov or (202) 482-1378.

Dated: June 2, 2017.
Andrew McGilvray,
Executive Secretary.

[FR Doc. 2017-11911 Filed 6-7-17; 8:45 am]

BILLING CODE 3510-DS-P